DEPARTMENT OF DEFENSE

Defense Acquisition Regulations System

48 CFR Part 227

Patents, Data, and Copyrights

CFR Correction

In Title 48 of the Code of Federal Regulations, Chapter 2, Parts 200 to 299, revised as of October 1, 2014, on page 220, in section 227.7100, redesignate paragraphs (a)(6) and (7) as paragraphs (a)(8) and (9) and add paragraphs (a)(6) and (7) to read as follows:

227.7100 Scope of subpart.

* * * * *

(a) * * *

* * * * *

(6) 10 U.S.C. 7317.

(7) 17 U.S.C. 1301, et seq.

* * * * *

[FR Doc. 2015-14530 Filed 6-12-15; 8:45 am]

BILLING CODE 1505-01-P